DEPARTMENT OF TRANSPORTATION

Federal Aviation Administration

14 CFR Part 71

[Docket No. FAA-2003-16534; Airspace Docket No. 03-ASO-19]

Establishment of Class D and E Airspace; Olive Branch, MS and Amendment of Class E Airspace; Memphis, TN

AGENCY: Federal Aviation Administration (FAA), DOT.

ACTION: Final rule; confirmation of effective date.

SUMMARY: This action confirms the new effective date for the establishment of Class D and E4 airspace at Olive Branch, MS and the amendment of Class E5 airspace at Memphis, TN. The construction of a new Federal contract tower with a weather reporting system was delayed; therefore, the effective date of the establishment of Class D and E4 airspace and amendment of Class E5 airspace was also delayed.

DATES: The effective date of April 15, 2004, published on February 3, 2004, (69 FR 5009), and subsequently delayed indefinitely (69 FR 8555), is now 0901 UTC, May 12, 2005.

FOR FURTHER INFORMATION CONTACT: Mark D. Ward, Manager, Airspace and Operations Branch, Air Traffic Division, Federal Aviation Administration, P.O. Box 20636, Atlanta, Georgia 30320; telephone (404) 305-5586.

SUPPLEMENTARY INFORMATION:

History

Docket No. 16534; Airspace Docket No. 03-ASO-19, published in the Federal Register on February 3, 2004 (69 FR 5009), established Class D and E4 airspace at Olive Branch, MS and amended Class E5 airspace at Memphis, TN. The construction of a federal contract tower with a weather reporting system at Olive Branch Airport made this action necessary. This action was originally scheduled to become effective on April 15, 2004; however, an unforeseen delay in beginning construction on the tower required the effective date of this action to be delayed. Construction is now nearing completion.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Confirmation of Effective Date

The effective date of Docket No. 16534; Airspace Docket No. 03-ASO-19 is hereby confirmed to be May 12, 2005.

Authority: 49 U.S.C. app. 1348(a), 1354(a), 1510; E.O. 10854, 24 FR 9565, 3 CFR, 1959-1963 Comp., p.389; 49 U.S.C. 106(g); 14 CFR 11.69.

* * * * *

Issued in College Park, Georgia, on February 1, 2005.
Mark D. Ward,
Acting Area Director, Eastern EnRoute & Oceanic Operations, ATO-E.

[FR Doc. 05-3610 Filed 2-24-05; 8:45 am]

BILLING CODE 4910-13-M